DEPARTMENT OF STATE

[Public Notice 8032]

In the Matter of the Designation of the Haqqani Network Also Known as HQN as a Foreign Terrorist Organization Pursuant to Section 219 of the Immigration and Nationality Act, as Amended

Based upon a review of the Administrative Record assembled in this matter and in consultation with the Attorney General and the Secretary of the Treasury, I conclude that there is a sufficient factual basis to find that the relevant circumstances described in section 219 of the Immigration and Nationality Act, as amended (hereinafter “INA”) (8 U.S.C. 1189), exist with respect to the Haqqani Network, also known as HQN.

Therefore, I hereby designate the aforementioned organization and its aliases as a Foreign Terrorist Organization pursuant to section 219 of the INA. This determination shall be published in the Federal Register.

Dated: September 7, 2012.
Hillary Rodham Clinton,
Secretary of State.

[FR Doc. 2012-23119 Filed 9-18-12; 8:45 am]

BILLING CODE 4710-10-P